DEPARTMENT OF COMMERCE

International Trade Administration

Announcement of July 2018 Approved International Trade Administration Trade Missions

AGENCY: International Trade Administration, Department of Commerce.

SUMMARY: The United States Department of Commerce, International Trade Administration (ITA) is announcing two upcoming trade missions that will be recruited, organized, and implemented by ITA. These missions are:

Trade Mission to India and Indo-Pacific in Conjunction with Trade Winds Indo-Pacific—May 6-13, 2019.

Cybersecurity Business Development Mission to Denmark, Norway, and Sweden—September 23-27, 2019.

A summary of each mission is found below. Application information and more detailed mission information, including the commercial setting and sector information, can be found at the trade mission website: http://export.gov/trademissions.

For each mission, recruitment will be conducted in an open and public manner, including publication in the Federal Register, posting on the Commerce Department trade mission calendar (http://export.gov/trademissions) and other internet websites, press releases to general and trade media, direct mail, broadcast fax, notices by industry trade associations and other multiplier groups, and publicity at industry meetings, symposia, conferences, and trade shows.

DATES: Applicable October 17, 2018.

FOR FURTHER INFORMATION CONTACT: Gemal Brangman, Trade Promotion Programs, Industry and Analysis, International Trade Administration, U.S. Department of Commerce, 1401 Constitution Avenue NW, Washington DC 20230; telephone (202) 482-3773.

SUPPLEMENTARY INFORMATION:

The Following Conditions for Participation Will Be Used for Each Mission

Applicants must submit a completed and signed mission application and supplemental application materials, including adequate information on their products and/or services, primary market objectives, and goals for participation. If the Department of Commerce receives an incomplete application, the Department may either: Reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content.

A trade association/organization applicant must certify to the above for all of the companies it seeks to represent on the mission.

In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for Each Mission

Targeted mission participants are U.S. firms, services providers and trade associations/organizations providing or promoting U.S. products and services that have an interest in entering or expanding their business in the mission's destination country. The following criteria will be evaluated in selecting participants:

• Suitability of the applicant's (or in the case of a trade association/organization, represented firm or service provider's) products or services to these markets;

• The applicant's (or in the case of a trade association/organization, represented firm or service provider's) potential for business in the markets, including likelihood of exports resulting from the mission; and

• Consistency of the applicant's (or in the case of a trade association/organization, represented firm or service provider's) goals and objectives with the stated scope of the mission.

Balance of company size and location may also be considered during the review process. Referrals from a political party or partisan political group or any information, including on the application, containing references to political contributions or other partisan political activities will be excluded from the application and will not be considered during the selection process. The sender will be notified of these exclusions.

Trade Mission Participation Fees

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such visas will be the responsibility of the mission participant. Government fees and processing expenses to obtain such visas are not included in the participation fee. However, the Department of Commerce will provide instructions to each participant on the procedures required to obtain business visas. Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Definition of Small and Medium Sized Enterprise

For purposes of assessing participation fees, the Department of Commerce defines Small and Medium Sized Enterprises (SME) as a firm with 500 or fewer employees or that otherwise qualifies as a small business under SBA regulations (see http://www.sba.gov/services/contractingopportunities/sizestandardstopics/index.html). Parent companies, affiliates, and subsidiaries will be considered when determining business size.

Mission List: (additional information about each mission can be found at http://export.gov/trademissions).

Trade Mission to India and Indo-Pacific in Conjunction With Trade Winds Indo-Pacific, May 6-13, 2019

Summary

The United States Department of Commerce, International Trade Administration, U.S. and Foreign Commercial Service (USFCS) is organizing a trade mission to India and the Indo-Pacific region, that will include the Trade Winds Indo-Pacific business forum in New Delhi, India, May 2019. U.S. trade mission members will participate in the Trade Winds—Indo-Pacific business forum in New Delhi, India (which is also open to U.S. companies not participating in the trade mission). Trade mission participants may participate in their choice of mission stops based on recommendations from the USFCS. Each trade mission stop will include one-on-one business appointments with pre-screened potential buyers, agents, distributors and joint-venture partners, and networking events. Trade mission participants electing to participate in the Trade Winds Indo-Pacific business forum may attend regional consultations with USFCS Senior Commercial Officers and Officers from participating State Department Partner Posts.

This mission is open to U.S. companies from a cross section of industries with growth potential in India and the Indo-Pacific region, including but not limited to: Aviation and defense, energy, healthcare, environmental technologies, digital services, infrastructure, smart cities, mining, agribusiness, automotive, and consumer goods.

Schedule

This timetable allows for clients to take part in business matchmaking across the diverse Indian marketplace by offering scheduled business-to-business meetings in New Delhi, Mumbai, Bengaluru, Chennai, Hyderabad, Kolkata, and Ahmedabad. This structure ensures that each post has set days for meetings that allow the clients to explore up to three of their best prospects for business.

The clients have the option to travel over the weekend to their choice of a mission stop offered in Bangladesh or Sri Lanka.

Sunday, May 5 | Arrive in New Delhi, India.
Monday-Wednesday, May 6-8 | New Delhi, India: Trade Winds Business Forum. Registration and Market Briefings, Business to Business meetings, Consultations with U.S. government trade representatives and networking with U.S. and foreign government and business officials.
Thursday, May 9 | Mumbai, Ahmedabad, Bengaluru, Chennai, Hyderabad and Kolkata: Business to Business Meetings (Choice of one mission stop).
Friday, May 10 | Mumbai, Ahmedabad, Bengaluru, Chennai, Hyderabad and Kolkata: Business to Business Meetings (Choice of one mission stop).
Saturday-Sunday, May 11-12 | Travel to Bangladesh or Sri Lanka if electing to participate in one of these mission stops.
Monday, May 13 | Bangladesh or Sri Lanka: Business to Business meetings and networking with government and business officials.
Tuesday, May 14 | Trade Mission Participants Depart.

Website: Please visit our official mission website for more information: http://export.gov/tradewinds.

Participation Requirements

All parties interested in participating in the trade mission to India (including mission stops with business matchmaking within India and/or Bangladesh or Sri Lanka must complete and submit an application package for consideration by the Department of Commerce. All applicants will be evaluated on their ability to meet certain conditions and best satisfy the selection criteria as outlined below.

A minimum of 40 companies and/or trade associations will be selected to participate in the mission from the applicant pool on a rolling basis. Mission stop participation will be limited as follows:

Business matchmaking capacity:

New Delhi—30

Mumbai—30

Chennai—25

Kolkata—15

Bengaluru—25

Ahmedabad—8

Hyderabad—5

Partner Post Sri Lanka—5

Partner Post Bangladesh—12

Additional delegates may be accepted based on available space. U.S. companies and/or trade associations already doing business in or seeking business in India, Sri Lanka or Bangladesh for the first time may apply.

Fees and Expenses

If and when an applicant is selected to participate on a particular mission, a payment to the Department of Commerce in the amount of the designated participation fee below is required. Upon notification of acceptance to participate, those selected have 5 business days to submit payment or the acceptance may be revoked.

The below trade mission fees include the $650 participation fee for the Trade Winds business forum to be held in New Delhi, India on May 6-8, 2019.

1. For one mission stop, the participation fee will be $2,200 for a small or medium-sized enterprise (SME) and $4,200 for large firms.

2. For two mission stops, the participation fee will be $3,200 for a small or medium-sized enterprise (SME) and $5,200 for large firms.

3. For three mission stops, the participation fee will be $4,200 for a small or medium-sized enterprise (SME) and $6,200 for large firms.

4. For four mission stops, the participation fee will be $5,200 for a small or medium-sized enterprise (SME) and $7,200 for large firms.

An additional representative for both SMEs and large firms will require an additional fee of $500.

Timeline for Recruitment

Recruitment for the mission will begin immediately and conclude no later than March 15, 2019. The U.S. Department of Commerce will review applications and make selection decisions on a rolling basis beginning October 31, 2018, until the maximum number of participants is selected. After March 15, 2019, applications will be considered only if space and scheduling constraints permit.

Contacts

Leslie Drake, Director U.S. Export Assistance Center—Charleston, WV, Leslie.Drake@trade.gov, Tel: 304-347-5123

International Contact Information

Aileen Nandi, Acting Senior Commercial Officer, U.S. Commercial Service New Delhi, Email: Aileen.Nandi@trade.gov

Greg Taevs, Acting Deputy Senior Commercial Officer, U.S. Commercial Service Mumbai, Email: Gregory.Taevs@trade.gov

Cyber-Security Business Development Mission to Denmark, Norway, and Sweden, September 23-27, 2019

Summary

The United States Department of Commerce, International Trade Administration (ITA), is organizing a cybersecurity Business Development Mission to Denmark, Norway, and Sweden.

This mission aims to introduce U.S. firms and trade associations to Northern Europe's information and communication technology (ICT), security, and critical infrastructure protection markets. It will assist U.S. companies in finding business partners to which they may export their products and services in the region. This mission intends to include representatives from U.S. companies and U.S. trade associations with members that provide cybersecurity and critical infrastructure protection products and services. The mission will visit Denmark, Norway, and Sweden, giving U.S. firms access to business development opportunities across in the Nordic region. Participating firms will gain market insights, make industry contacts, solidify business strategies, and advance their own specific projects, all with the goal of increasing U.S. product and service exports to the region. This mission will include customized, one-on-one, business appointments with pre-screened potential buyers, agents, distributors, and joint venture partners. It will also allow for meetings with industry leaders as well as state and local government officials, along with other networking events.

Like many other European countries, the Nordic cybersecurity market revolves around the following categories:

Security Software: Software as a Service (SAaS); Anti-virus software; content-management soft-ware; Security Information and Event Management (SIEM); software associated with compliance and disclosure regulations.

Security Services: Managed Information Security Services (MISS); Outsourcing; security audits and penetration testing; services associated with compliance and disclosure regulations.

Security Appliances: Unified Threat Management (UTM)—the unification of firewall, VPN, ID&P and gateway antivirus into a single platform; wireless and application security solutions; biometric technology.

Proposed Timetable

* Note: The schedule below is only an example of potential activities during the mission and are subject to change. The final schedule and potential site visits will depend on the availability of host government and business officials, specific goals of mission participants, and ground transportation.

Sunday, September 22 | Trade Mission Participants Arrive in Copenhagen.
Monday, September 23, Copenhagen | Welcome and Denmark Country Briefing; Participant Elevator Pitches followed by matchmaking appointments; Networking Lunch; Matchmaking continues; Networking Reception at Ambassador's residence (TBC).
Tuesday, September 24, Copenhagen/Oslo | Public Sector Roundtable incl. light lunch; Travel to Oslo; Networking Reception at Ambassador's residence including Norway Country Briefing (TBC).
Wednesday, September 25, Oslo/Stockholm | Public Sector Roundtable; Networking Lunch with Participant Elevator Pitches; Matchmaking appointments; Depart for Stockholm.
Thursday, September 26, Stockholm | Welcome and Sweden Country Briefing; Participant Elevator Pitches followed by matchmaking appointments; Networking Lunch; Matchmaking continues; Networking Reception at Ambassador's residence (TBC).
Friday, September 27 | Public Sector Roundtable; Mission concludes and Participants Depart.

Participation Requirements

All parties interested in participating in the trade mission must complete and submit an application package for consideration by the U.S. Department of Commerce. All applicants will be evaluated on their ability to meet certain conditions and best satisfy the selection criteria as outlined below. A minimum of 10 and maximum of 12 firms and/or trade associations will be selected to participate in the mission from the applicant pool.

Fees and Expenses

If, and when, an applicant is selected to participate on a particular mission, a payment to the Department of Commerce in the amount of the designated participation fee is required. Upon notification of acceptance to participate, those selected have 5 business days to submit payment or the acceptance may be revoked. The participation fee for the Business Development Mission will be $3,800.00 for small or medium-sized enterprises (SME); and $4,800.00 for large firms or trade associations. The fee for each additional firm representative (large firm or SME/trade organization) is $1,000. Expenses for travel, lodging, meals, and incidentals will be the responsibility of each mission participant. Interpreter and driver services can be arranged for additional cost. Delegation members will be able to take advantage of U.S. Embassy rates for hotel rooms.

Timeframe for Recruitment and Application

Recruitment for the mission will begin immediately and conclude no later than June 14, 2019. The U.S. Department of Commerce will review applications and make selection decisions on a rolling basis beginning September 10, 2018 until the maximum of 12 participants is selected. Applications received after June 14, 2019, will be considered only if space and scheduling constraints permit.

Contacts

USA

Gemal Brangman, Project Officer, Trade Promotion Programs, Washington, DC, Tel: 202-482-3773, Gemal.Brangman@trade.gov

Pompeya Lambrecht, Senior International Trade Specialist, Northern Virginia—USEAC, Tel: 703-235-0102, Pompeya.Lambrecht@trade.gov

Sheryl Hitomi, International Trade Specialist, San Jose—USEAC, Tel: 408-535-2757, Sheryl.Hitomi@trade.gov

Denmark

Aleksander Moos, Commercial Specialist, Tel: + 45 33 41 73 15, Aleksander.Moos@trade.gov

Norway

Heming Bjorna, Senior Commercial Specialist, Tel: + 47 21 30 88 66, Heming.Bjorna@trade.gov

Sweden

Tuula Ahlstrom, Senior Commercial Specialist, Tel: + 46 8 783 5346, Tuula.Ahlstrom@trade.gov

Tiara Hampton-Diggs,
Program Specialist for Trade Promotion Programs.

[FR Doc. 2018-22097 Filed 10-16-18; 8:45 am]

BILLING CODE 3510-DR-P